SURFACE TRANSPORTATION BOARD

[Docket No. FD 36550]

Missouri Eastern Railroad, LLC—Acquisition and Change of Operator Exemption—V and S Railway, LLC, and Central Midland Railway Company

Missouri Eastern Railroad, LLC (MER), a noncarrier, has filed a verified notice of exemption under 49 CFR 1150.31 to acquire: (1) From V and S Railway, LLC (V&S), an approximately 42.89-mile rail line between milepost 19.0 near Vigus, Mo., and milepost 61.89 near Union, Mo., (the Line); and (2) incidental overhead trackage rights over a rail line owned by Union Pacific Railroad Company between milepost 19.0 near Vigus and milepost 10.3 at Rock Island Junction, Mo. (the TR Segment).

According to the verified notice, MER and V&S are in the process of finalizing the terms of an asset purchase agreement (the Agreement), pursuant to which MER will assume ownership of the Line. The verified notice indicates that Central Midland Railway Company (Central Midland) currently operates the Line (and also leases the TR Segment), and that, in light of MER's purchase of the Line, Central Midland has agreed that MER will replace it as the common carrier operator on the Line, thus effectuating a change of operator. MER states that it plans to replace Central Midland as the common carrier operator on the Line on or after January 1, 2022, and would commence operations on the TR Segment at that same time.

MER certifies that the transaction does not involve any provision, restriction, or agreement that would limit future interchange with a third-party connecting carrier. MER further certifies that its projected annual revenues resulting from the transaction will not exceed $5 million and will not result in MER's becoming a Class I or Class II rail carrier. Under 49 CFR 1150.32(b), a change in operator requires that notice be given to shippers. MER has certified that notice of the proposed transaction has been provided to shippers on the Line.

The earliest this transaction may be consummated is November 24, 2021. MER states that it expects to acquire the Line on or after that date and to commence operations over the Line and its incidental trackage rights over the TR Segment on or after January 1, 2022.

If the verified notice contains false or misleading information, the exemption is void ab initio. Petitions to revoke the exemption under 49 U.S.C. 10502(d) may be filed at any time. The filing of a petition to revoke will not automatically stay the effectiveness of the exemption. Petitions for stay must be filed no later than November 17, 2021 (at least seven days before the exemption becomes effective).

All pleadings, referring to Docket No. FD 36550, should be filed with the Surface Transportation Board via e-filing on the Board's website. In addition, a copy of each pleading must be served on MER's representative, Robert A. Wimbish, Fletcher & Sippel LLC, 29 North Wacker Drive, Suite 800, Chicago, IL 60606.

According to MER, this action is categorically excluded from environmental review under 49 CFR 1105.6(c) and from historic preservation reporting requirements under 49 CFR 1105.8(b)(1).

Board decisions and notices are available at www.stb.gov.

Decided: November 5, 2021.
By the Board, Scott M. Zimmerman, Acting Director, Office of Proceedings.
Jeffrey Herzig,
Clearance Clerk.

[FR Doc. 2021-24598 Filed 11-9-21; 8:45 am]

BILLING CODE 4915-01-P